DEPARTMENT OF TRANSPORTATION

Federal Aviation Administration

14 CFR Part 39

[Docket No. FAA-2006-25084; Project Identifier 2005-SW-38-AD]

RIN 2120-AA64

Airworthiness Directives; Bell Textron Canada Limited (Type Certificate Previously Held by Bell Helicopter Textron Canada Limited) Helicopters

AGENCY: Federal Aviation Administration (FAA), DOT.

ACTION: Supplemental notice of proposed rulemaking (SNPRM).

SUMMARY: The FAA is reopening the comment period for an earlier proposed rulemaking (NPRM) for certain Bell Textron Canada Limited (type certificate previously held by Bell Helicopter Textron Canada Limited) Model 206L series helicopters. The NPRM proposed to require replacing certain low fuel level detector switch units (switch units) and testing certain other switch units to determine if replacement is required. The NPRM was prompted by a manufacturing flaw that could cause the switch units to hang in the high position and fail to indicate a low fuel condition. This action reopens the comment period because a significant amount of time has elapsed since the NPRM was published. This action also revises the NPRM by updating the type certificate holder's name, updating the estimated cost information, clarifying and expanding the applicability, clarifying the requirements, adding a compliance time, and adding parts installation prohibitions. The FAA is proposing this airworthiness directive (AD) to address the unsafe condition on these products. Since these actions would impose an additional burden over those in the NPRM, the agency is requesting comments on this SNPRM.

DATES: The FAA must receive comments on this SNPRM by April 26, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this SNPRM, contact Bell Textron Canada Limited, 12,800 Rue de l'Avenir, Mirabel, Quebec J7J1R4; telephone (450) 437-2862 or (800) 363-8023; fax (450) 433-0272; or at https://www.bellcustomer.com. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2006-25084; or in person at Docket Operations between 9 a.m. and 5 p.m., Monday through Friday, except Federal holidays. The AD docket contains the NPRM, this SNPRM, the Transport Canada AD, any comments received, and other information. The street address for Docket Operations is listed above.

FOR FURTHER INFORMATION CONTACT: Hal Jensen, Aerospace Engineer, Operational Safety Branch, FAA, 950 L'Enfant Plaza N SW, Washington, DC 20024; telephone (202) 267-9167; email hal.jensen@faa.gov.

SUPPLEMENTARY INFORMATION:

Comments Invited

The FAA invites you to send any written relevant data, views, or arguments about this proposal. Send your comments to an address listed under ADDRESSES. Include “Docket No. FAA-2006-25084; Project Identifier 2005-SW-38-AD” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Hal Jensen, Aerospace Engineer, Operational Safety Branch, FAA, 950 L'Enfant Plaza N SW, Washington, DC 20024; telephone (202) 267-9167; email hal.jensen@faa.gov. Any commentary that the FAA receives which is not specifically designated as CBI will be placed in the public docket for this rulemaking.

Background

The FAA issued an NPRM to amend 14 CFR part 39 by adding an AD that would apply to Bell Helicopter Textron, Inc., Model 206L series helicopters with a switch unit part number 206-063-613-003, serial numbers (S/Ns) 1413, 1414, 1415, 1424, 1428, 1430, 1432, and 1433, installed. The NPRM published in the Federal Register on June 22, 2006 (71 FR 35836). In the NPRM, the FAA proposed to require inspecting the switch unit to determine if it is an affected serial-numbered switch unit and replacing each affected switch unit with an airworthy switch unit that has an S/N other than those listed in the applicability. If the S/N is missing or unreadable; the mounting flange of the switch unit is not colored red; and the purchase date of the switch unit is between April 19 and July 26, 2004, or could not be determined, the NPRM proposed to require an operational test. If the switch unit failed the operational test, the NPRM proposed to require replacing the switch unit with an airworthy switch unit that has an S/N other than those listed in the applicability. The NPRM was prompted by Canadian AD CF-2004-24, dated November 24, 2004, issued by Transport Canada, which is the aviation authority for Canada, to correct an unsafe condition for Model 206L series helicopters. Transport Canada advised that eight low fuel level detectors of listed S/Ns may have been installed on Model 206L series helicopters. These detectors could hang in the high position and fail to indicate the low fuel condition. Accordingly, Transport Canada advised removing the affected switch units from service.

Actions Since the NPRM Was Issued

Since the NPRM was issued, a significant amount of time has elapsed requiring the FAA to reopen the comment period to allow the public a chance to comment on the proposed actions.

The NPRM also inadvertently identified the type certificate holder's name as, “Bell Helicopter Textron Canada” and “Bell Helicopter Textron, Inc.” instead of the correct name of “Bell Helicopter Textron Canada Limited.” Additionally, since the FAA issued the NPRM, Bell Helicopter Textron Canada Limited has changed its name to Bell Textron Canada Limited. This SNPRM reflects those changes and updates the contact information to obtain service documents. This SNPRM also updates the estimated cost information.

Additional review also revealed necessary changes to address the unsafe condition. This SNPRM proposes to clarify the applicability by identifying the specific model helicopters in the series that are applicable, clarify affected model designations, expand the applicability by adding switch units with a missing or illegible S/N or with an S/N that cannot be determined, add a compliance time that was missing in the NPRM, and add parts installation prohibitions. This SNPRM also updates the AD format. As a result, paragraph identifiers have changed, the proposed requirements have been revised by removing unnecessary information, and the information in a figure has changed to a note.

Lastly, the FAA's Aircraft Certification Service has changed its organizational structure. The new structure replaces product directorates with functional divisions. The FAA has revised some of the office titles and nomenclature throughout this proposed AD to reflect the new organizational changes. Additional information about the new structure can be found in the Notice published on July 25, 2017 (82 FR 34564).

Comments

The following discussion presents the comments received on the NPRM and the FAA's response.

Request

The Modification and Replacement Parts Association comments in support of replacing certain defective switch units with airworthy switch units. However, the Modification and Replacement Parts Association stated that specifying the particular part that must be installed conflicts with 14 CFR 21.303 by invalidating previous approvals under parts manufacturer approval (PMA) and prohibiting the development, manufacture, and installation of PMA parts designed to be free of the noted defects. In light of this, the Modification and Replacement Parts Association requested allowing equivalent replacement parts to correct the unsafe condition under PMA (other than identicality) in the AD.

The FAA agrees and has changed instances of replacing an affected switch unit with an airworthy switch unit that does not have a serial number listed in the applicability. This SNPRM proposes to require removing affected switch units from service instead. It is assumed that an approved and airworthy part will be installed in order to return the helicopter to service.

FAA's Determination

These helicopters have been approved by the aviation authority of Canada and are approved for operation in the United States. Pursuant to the FAA's bilateral agreement with Canada, Transport Canada, its technical representative, has notified the FAA of the unsafe condition described in its AD. The FAA is proposing this AD after determining the unsafe condition described previously is likely to exist or develop in other helicopters of the same type designs. Certain changes described above expand the scope of the NPRM. As a result, it is necessary to reopen the comment period to provide additional opportunity for the public to comment on this SNPRM.

Related Service Information

The FAA reviewed Bell Helicopter Textron Alert Service Bulletin No. 206L-04-132, Revision A, dated October 4, 2004. This service information specifies procedures for determining whether any of eight specified serial-numbered detector switch units are installed because they may fail to indicate a low fuel condition. If the S/N is missing or unreadable, the service information specifies inspecting the switch unit to determine if it is an affected switch unit. The service information also specifies removing each affected switch unit.

Proposed AD Requirements in This SNPRM

This proposed AD would require removing certain switch units from service and prohibit installing those switch units.

This proposed AD would also require accomplishing an operational test of certain other switch units, and if the operational test fails, removing the switch unit from service. This proposed AD would also prohibit installing those certain other switch units unless they pass an operational test.

Differences Between This SNPRM and the Transport Canada AD

This proposed AD applies to switch units with a missing or illegible S/N or with an S/N that cannot be determined, and requires certain actions for those switch units, whereas the Transport Canada AD does not.

Costs of Compliance

The FAA estimates that this AD, if adopted as proposed, would affect up to 558 helicopters of U.S. Registry. Labor rates are estimated at $85 per work-hour. Based on these numbers, the FAA estimates the following costs to comply with this proposed AD.

Replacing a switch unit would take about 4 work-hours and parts would cost about $921 for an estimated cost of $1,261 per switch unit and up to $703,638 for the U.S. fleet. Accomplishing an operational test would take about 4 work-hours for an estimated cost of $340 per switch unit and up to $189,720 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited (Type Certificate Previously Held by Bell Helicopter Textron Canada Limited): Docket No. FAA-2006-25084; Project Identifier 2005-SW-38-AD.

(a) Comments Due Date

The FAA must receive comments on this airworthiness directive (AD) action by April 26, 2021.

(b) Affected ADs

None.

(c) Applicability

This AD applies to Bell Textron Canada Limited (type certificate previously held by Bell Helicopter Textron Canada Limited) Model 206L, 206L-1, 206L-3, and 206L-4 helicopters, certificated in any category, with a low fuel level detector switch unit (switch unit) part number (P/N) 206-063-613-003:

(1) With a switch unit serial number (S/N) 1413, 1414, 1415, 1424, 1428, 1430, 1432, or 1433 installed, or

(2) With a missing or illegible switch unit S/N or if the S/N cannot be determined, installed.

Note 1 to paragraph (c): Helicopters with a 206L-1+ designation are Model 206L-1 helicopters. Helicopters with a 206L-3+ designation are Model 206L-3 helicopters.

Note 2 to paragraph (c): The switch unit is located on the aft fuel boost pump assembly. The P/N and S/N for the switch unit could be on the outside face of the attachment flange, in the cross hatched area of the switch unit.

(d) Subject

Joint Aircraft Service Component (JASC) Code: 2842, Fuel Quantity Sensor.

(e) Unsafe Condition

This AD was prompted by a manufacturing flaw that could cause a switch unit to hang in the high position and fail to indicate a low fuel condition. The FAA is issuing this AD to prevent failure of the switch unit to indicate a low fuel condition that could lead to fuel exhaustion and which if not addressed, could result in a subsequent forced landing.

(f) Compliance

Comply with this AD within the compliance times specified, unless already done.

(g) Required Actions

(1) For a switch unit identified in paragraph (c)(1) of this AD, on or before the next 100-hour time-in-service inspection after the effective date of this AD, remove the switch unit from service.

(2) For a switch unit identified in paragraph (c)(2) of this AD, on or before the next 100-hour time-in-service inspection after the effective date of this AD:

(i) Determine the color of the switch unit mounting flange. If the mounting flange color is any color other than red, determine the purchase date. If the purchase date of the switch unit is between April 19 and July 26, 2004, or cannot be determined, do an operational test.

(ii) If the switch unit fails the operational test, before further flight, remove the switch unit from service.

(3) As of the effective date of this AD, do not install a switch unit identified in paragraph (c)(1) of this AD on any helicopter.

(4) As of the effective date of this AD, do not install a switch unit identified in paragraph (c)(2) of this AD on any helicopter unless the actions in paragraphs (g)(2)(i) and (ii) of this AD have been accomplished.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Hal Jensen, Aerospace Engineer, Operational Safety Branch, FAA, 950 L'Enfant Plaza N SW, Washington, DC 20024; telephone (202) 267-9167; email hal.jensen@faa.gov.

(2) For service information identified in this AD, contact Bell Textron Canada Limited, 12,800 Rue de l'Avenir, Mirabel, Quebec J7J1R4; telephone (450) 437-2862 or (800) 363-8023; fax (450) 433-0272; or at https://www.bellcustomer.com. You may view this referenced service information at the FAA, Office of the Regional Counsel, Southwest Region, 10101 Hillwood Pkwy., Room 6N-321, Fort Worth, TX 76177. For information on the availability of this material at the FAA, call (817) 222-5110.

(3) The subject of this AD is addressed in Transport Canada AD CF-2004-24, dated November 24, 2004. You may view the Transport Canada AD on the internet at https://www.regulations.gov in the AD Docket.

Issued on March 8, 2021.
Ross Landes,
Deputy Director for Regulatory Operations, Compliance & Airworthiness Division, Aircraft Certification Service.

[FR Doc. 2021-05149 Filed 3-11-21; 8:45 am]

BILLING CODE 4910-13-P